DEPARTMENT OF ENERGY

Office of International Regimes and Agreements; Proposed Subsequent Arrangement

AGENCY: Department of Energy.

ACTION: Notice of Proposed Subsequent Arrangement.

SUMMARY: This notice is being issued under the authority of Section 131 of the Atomic Energy Act of 1954, as amended (42 U.S.C. 2160). The Department is providing notice of a proposed “subsequent arrangement” under the Agreement for Cooperation between the Government of the United States of America and the Republic of Korea Concerning Civil Uses of Atomic Energy, signed November 24, 1972, as amended.

This subsequent arrangement concerns the renewal of the 2002 Joint Determination by the Government of the United States of America and the Government of the Republic of Korea pursuant to Article VIII(C) of that Agreement. This arrangement reaffirms that the provisions of Article XI of the Joint Determination may be effectively applied for the alteration in form or content of U.S.-origin nuclear material contained in irradiated nuclear fuels from pressurized water reactors, CANDU reactors, a research reactor at the Post Irradiation Examination Facility (PIEF), the Irradiated Material Examination Facility (IMEF), the DUPIC Fuel Fabrications Facility (DFDF), and identified analytical laboratories at the Headquarters of the Korea Atomic Energy Research Institute, in accordance with the plan contained in KAERI/AR-765/2007, dated January 30, 2007, and KAERI/AR-766/2007, dated January 31, 2007. Any activities additional to the plan or changes in the equipment in the PIEF, IMEF, or the DFDF will be reviewed by both parties to ensure the general consistency with the scope and objectives of the Joint Determination. Reference is made to the Joint Determination signed by the Government of the United States of America and the Government of the Republic of Korea on March 29, 1996, on April 8, 1999, and on January 29, 2002, covering similar activities at the PIEF, the IMEF, and the DFDF. These facilities are found acceptable to both parties pursuant to Article VIII(C) of the Agreement for the sole purpose of alteration in form or content of irradiated fuel elements for post-irradiation examination and for research, development and manufacture of DUPIC fuel powders, pellets and elements for the period ending March 31, 2012.

In accordance with Section 131 of the Atomic Energy Act of 1954, as amended, we have determined that this subsequent arrangement will not be inimical to the common defense and security.

This subsequent arrangement will take effect no sooner than 15 days after the date of publication of this notice.

Dated: March 29, 2007.
For the Department of Energy.
Richard Goorevich,
Director, Office of International Regimes and Agreements.

[FR Doc. E7-6280 Filed 4-3-07; 8:45 am]

BILLING CODE 6450-01-P